DEPARTMENT OF ENERGY

Federal Energy Regulatory Commission

[Docket No. CP01-111-000]

Algonquin Gas Transmission Company, Texas Eastern Transmission Corporation; Notice of Application

April 6, 2001.

Take notice that on March 28, 2001, Algonquin Gas Transmission Company (Algonquin) and Texas Eastern Transmission Corporation (Texas Eastern), 5400 Westheimer Court, Houston, Texas 77056-5310, filed in Docket No. CP01-111-000 a joint application pursuant to sections 7(b) and 7(c) of the Natural Gas Act for a certificate of public convenience and necessity to (i) replace two existing 3830 HP Solar Centaur 40 compressor units with two 7150 HP Solar Taurus 60 compressor units at Algonquin's Hanover compressor station, subject to specified cost and fuel reimbursement by Texas Eastern, (ii) a dispatching and compression services arrangement between Algonquin and Texas Eastern (iii) an expansion of 135,000 dekatherms per day, as a result of (i) and (ii) above, of Texas Eastern's system capacity east of Lambertville to the terminus of the Texas Eastern system, all as more fully set forth in the application which is on file with the Commission and open to public inspection. This filing may be viewed on the web at http://www.ferc.fed.us./online/rims.htm (call (202) 208-2222 for assistance).

The parties state that Texas Eastern has requested Algonquin to replace the two existing Centaur units at Algonquin's Hanover station with two new Taurus units as part of Texas Eastern's proposal to accommodate a shifting of deliveries from Texas Eastern to Algonquin from Hanover, New Jersey to Lambertville, New Jersey. The parties further state that such compression modifications, in conjunction with the Dispatching Agreement between Texas Eastern and Algonquin, will result in an additional 135,000 dekatherms per day of firm capacity to the Texas Eastern system from the Lambertville compressor station to as far as Texas Eastern's primary delivery terminus into the New York City markets and will contemporaneously provide Texas Eastern customers with additional operational reliability and flexibility downstream of Lambertville, which has historically been an area of constraint on the Texas Eastern system.

It is stated that pursuant to the Dispatching Agreement, Texas Eastern will reimburse Algonquin for the net capital cost of $6.7 million for the replacement of the two existing 3830 HP compressor units at Hanover with two 7150 HP units, will provide the incremental fuel necessary to run these units, and Algonquin will, at Texas Eastern's direction, receive up to 200,000 dekatherms per day at the Lambertville station interconnect instead of the Hanover station interconnect. It is stated that Algonquin will own and operate the compressor units subject to the Dispatching Agreement. It is further stated that shippers with delivery/receipt entitlements at the interconnect points will not be impacted and that no changes in shipper contracts or scheduling procedures will be required.

The parties state that in its next section 4 rate case, Texas Eastern expects to file for rolled-in rate treatment of the net facility-related costs for which it is reimbursing Algonquin; however, a predetermination of rolled-in rate treatment from the Commission is not requested at this time.

The parties state that because the joint proposal can be implemented quickly with minimal construction, the project will provide certain comprehensive benefits which include, but are not limited to, being able to meet growing markets needs in the New York and New Jersey market area for the upcoming 2001-2002 peak winter season at a minimal cost and with minimal environmental impact. Texas Eastern indicates that key project benefits include, but are not limited to, the alleviation of system constraints downstream of Lambertville, open access goals, increased reliability of service, and no change to existing base rates. Algonquin specifies that the benefits to its system and customers include, but are not limited to, a reduction in peak day fuel consumption at the Hanover station, a new reduction in permitted long-term air emissions, no adverse impact to the existing quality of service to Algonquin customers and no change in existing base rates.

Questions regarding the details of this proposed project should be directed to Steven E. Tillman, Director of Regulatory Affairs for Algonquin Gas Transmission Company and Texas Eastern Transmission Corporation, P.O. Box 1642, Houston, Texas 77251-1642.

There are two ways to become involved in the Commission's review of this project. First, any person wishing to obtain legal status by becoming a party to the proceedings for this project should, on or before April 27, 2001, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments to intervene as early in the process as possible.

Comments, protests and interventions and be filed electronically via the Internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-9030 Filed 4-11-01; 8:45 am]

BILLING CODE 6717-01-M